DEPARTMENT OF COMMERCE

National Oceanic and Atmospheric Administration

15 CFR Part 922

Initiation of Review of Management Plan and Regulations of the Monterey Bay National Marine Sanctuary; Intent To Conduct Scoping and Prepare Draft Environmental Impact Statement and Management Plan

AGENCY: Office of National Marine Sanctuaries (ONMS), National Ocean Service (NOS), National Oceanic and Atmospheric Administration (NOAA), Department of Commerce (DOC).

ACTION: Initiation of review of management plan and regulations; intent to conduct scoping and prepare environmental impact statement.

SUMMARY: Monterey Bay National Marine Sanctuary (MBNMS or sanctuary) was designated in September 1992. It spans 4,601 square nautical miles (6.094 square miles) of marine waters off the central California coast, encompassing several large, nearshore submarine canyons, an offshore seamount and numerous marine habitats representative of the central California coastal and marine ecosystem. The present management plan was written and published in 2008 along with a final environmental impact statement in accordance with the National Environmental Policy Act (NEPA). In accordance with Section 304(e) of the National Marine Sanctuaries Act, as amended, (NMSA), the Office of National Marine Sanctuaries (ONMS) of the National Oceanic and Atmospheric Administration (NOAA) is initiating a review of the MBNMS management plan, to evaluate substantive progress toward implementing the goals for the sanctuary, and to make revisions to the plan and regulations as necessary to fulfill the purposes and policies of the NMSA. NOAA anticipates regulatory and management plan changes will require preparation of an environmental analysis under the National Environmental Policy Act (NEPA). NOAA will conduct public scoping meetings to gather information and other comments from individuals, organizations, tribes, and government agencies on the scope, types and significance of issues related to the MBNMS management plan and regulations and the proper scope of environmental review for the project. The scoping meetings are scheduled as detailed below.

DATES: Written comments should be received on or before October 30, 2015.

Scoping meetings will be held on:

(1) September 10, 6-8 p.m., Monterey Conference Center, Monterey, CA.

(2) September 23, 6-8 p.m., Louden Nelson Center, Santa Cruz, CA.

(3) October 23, 6-8 p.m., Veteran's Memorial Hall, Cambria, CA.

ADDRESSES: You may submit comments on this document, identified by NOAA-NOS-2015-0999, by any of the following methods:

• Electronic Submission: Submit all electronic public comments via the Federal e-Rulemaking Portal. Go to www.regulations.gov/#!docketDetail;D=NOAA-NOS-2015-0999, click the “Comment Now!” icon, complete the required fields, and enter or attach your comments.

• Mail: 99 Pacific Street, Bldg. 455A, Monterey, California 93940, Attn: Paul Michel, Superintendent.

Instructions: Comments sent by any other method, to any other address or individual, or received after the end of the comment period, may not be considered by NOAA. All comments received are a part of the public record and will generally be posted for public viewing on www.regulations.gov without change. All personal identifying information (e.g., name, address, etc.), confidential business information, or otherwise sensitive information submitted voluntarily by the sender will be publicly accessible. NOAA will accept anonymous comments (enter “N/A” in the required fields if you wish to remain anonymous).

FOR FURTHER INFORMATION CONTACT: Dawn Hayes, 831.647.4256, mbnmsmanagementplan@noaa.gov.

SUPPLEMENTARY INFORMATION: Reviewing the MBNMS management plan may result in proposed changes to existing plans and policies to address contemporary issues and challenges, and better protect and manage the sanctuary's resources and qualities. The review process is composed of four major stages: (1) Information collection and characterization; (2) preparation and release of a draft management plan and environmental impact statement, and any proposed amendments to the regulations; (3) public review and comment; (4) preparation and release of a final management plan and environmental document, and any final amendments to the regulations. NOAA will also address other statutory and regulatory requirements that may be required pursuant to the Endangered Species Act, Marine Mammal Protection Act, Essential Fish Habitat provisions of the Magnuson-Stevens Act, and the National Historic Preservation Act.

Preliminary Priority Topics

NOAA has prepared a preliminary list of priority topics to consider during the MBNMS management plan review process. We are interested in public comment on these topics, as well as any other topics of interest to the public or other agencies in the context of the MBNMS management plan review. This list does not preclude or in any way limit the consideration of additional topics raised through public comment, government-to-government and interagency consultations, and discussions with partner agencies.

Collaborative Research and Management

There is a continuing need for characterization, research and monitoring to understand baseline conditions of marine resources within the sanctuary, ecosystem functions, and status and trends of biological and socioeconomic resources. NOAA relies on the continued support of multiple partners and volunteers, and strives to address critical resource protection through collaborative multi-stakeholder management efforts. In addition to updating existing action plans in the management plan, NOAA is considering adding strategies and activities to address the following issues:

Climate Change—Climate change is widely acknowledged, yet there is considerable uncertainty about current and future consequences at local, ecosystem and oceanic scales. Increased coordination and cooperation among science and resource management agencies are required to improve planning, monitoring and adaptive management to address this phenomenon as it pertains to the protection of MBNMS resources.

Wildlife Disturbance—MBNMS is an active area with abundant human use, offering some of the most significant marine wildlife viewing in the world. NOAA is concerned about a variety of human activities that have the ability to disturb marine wildlife. The harassment of wildlife, in particular marine mammals, has increased in recent years due to increased numbers (and proximity) of certain whale species and humans involved in on-the-water activities. Impacts to the MBNMS soundscape are also a concern, as the cumulative effects of underwater noise generated by a variety of human activities have grown over the past half century. Expanded use of unmanned aircraft systems over the sanctuary may also require additional analysis to determine the degree to which these aircraft may, or may not, be causing harm to wildlife.

Water Quality Protection—Water quality is key to ensuring protection for all sanctuary resources. Given the level of coastal development along MBNMS's extensive coastline, runoff of contaminants such as sediments, nutrients, fecal bacteria, pesticides, oil, grease, metals, and detergents from the approximately 7,000 square miles of coastal watershed areas makes the sanctuary vulnerable to coastal water pollution problems. Although MBNMS has an award-winning water quality protection program, NOAA believes that more focused attention on specific water quality issues is needed, as well as a coordinated regional monitoring program to provide meaningful information on conditions, trends, and contaminant loads.

Marine Debris—Coastal marine debris is a persistent and poorly diagnosed problem within the sanctuary that negatively impacts natural and socioeconomic resources and qualities, including marine mammals, turtles and seabirds. NOAA is seeking input on innovative source controls and cleanups could help minimize impacts to sanctuary waters and habitats.

Regulatory Changes and Clarifications

NOAA is considering several modifications to MBNMS regulations and definitions to facilitate resource protection, clarify legal intent, and enhance public understanding. These include: Clarifying the extent of the shoreward sanctuary boundary line and the means by which some of the zones within MBNMS are delineated; clarifying the intent of the prohibition on the take of historical resources; and prohibiting tampering with MBNMS signage and buoys. Other regulatory changes may be considered based on public scoping comments and staff work to adjust various action plans within the management plan.

Other potential regulatory modifications on which NOAA is seeking public input include:

(1) Reducing the required High Surf Warning (HSW) condition for Motorized Personal Watercraft operations at Mavericks to a High Surf Advisory (HSA) condition.

(2) Minimizing disturbance from low overflights in the area of the Common Murre colony at Devil's Slide, a restoration site just beyond the MBNMS boundary line at Point San Pedro (San Mateo County).

(3) Designating of specific zones where fireworks may be permitted within MBNMS.

(4) Updating regulations to clarify the extent of the shoreward sanctuary boundary line.

(5) Ensuring that salvers operating within MBNMS meet minimum industry standards for safety, liability, capacity, and environmentally sensitive salvage techniques during both emergency and non-emergency operations.

(6) Clarifying the definition of “cruise ship” to include not only ships with berths for hire as is currently defined, but also ships with condominiums under private ownership.

(7) Clarifying the intent and applicability of the existing prohibition on deserting a vessel in MBNMS.

Education, Outreach and Citizen Science

Enhancing the public's awareness and appreciation of sanctuary resources is a cornerstone of MBNMS's mission. Recent initiatives, such as visitor centers, video media production, and partnering with recreation and tourism industry offer opportunities for NOAA and other entities to expand educational and outreach contributions and reach larger audiences. NOAA is seeking the public's view on developing and enhancing programs designed to enhance public awareness, including opportunities to participate in environmental research and monitoring.

Condition Report

To inform the MBNMS management plan review, NOAA is updating the Monterey Bay National Marine Sanctuary Condition Report, which was first published in 2009. The 2009 report provided a summary of resources in MBNMS, pressures on those resources, current conditions and recent trends within the Sanctuary, and management responses to mitigate negative impacts. The 2015 Condition Report will update current conditions and recent changes for water quality, habitat, living resources and maritime archaeological resources in the sanctuary. It will also include an assessment of the Davidson Seamount Management Zone which NOAA added to MBNMS in 2009.

A summary of the 2015 Condition Report will be available to the general public during the public scoping period and on the Internet at: http://sanctuaries.noaa.gov/science/condition/welcome.html. The final report will be made available in late December 2015 on the same Web site.

Public Comments

NOAA is interested in hearing the public's view on:

• The potential impacts of the proposed actions discussed above and ways to mitigate these impacts.

• The topics discussed above for the next five to ten years and whether these are the right topics, the priority topics, or if there are additional topics NOAA should consider.

• The effectiveness of the existing management plan in meeting both the mandates of the NMSA and MBNMS goals and objectives.

• The public's view on the effectiveness of the MBNMS programs, including programs focused on: Resource protection; research and monitoring; education; volunteer; and outreach.

• NOAA's implementation of MBNMS regulations and permits.

• Adequacy of existing boundaries to protect sanctuary resources.

• Assessment of the existing operational and administrative framework (staffing, offices, vessels, etc.).

Federal Consultations

This document also advises the public that NOAA will coordinate its consultation responsibilities under section 7 of the Endangered Species Act (ESA), Essential Fish Habitat (EFH) under the Magnuson Stevens Fishery Conservation and Management Act (MSA), section 106 of the National Historic Preservation Act (NHPA, 16 U.S.C. 470), and Federal Consistency review under the Coastal Zone Management Act (CZMA), along with its ongoing NEPA process including the use of NEPA documents and public and stakeholder meetings to also meet the requirements of other federal laws.

In fulfilling its responsibility under the NHPA and NEPA, NOAA intends to identify consulting parties; identify historic properties and assess the effects of the undertaking on such properties; initiate formal consultation with the State Historic Preservation Officer, the Advisory Council of Historic Preservation, and other consulting parties; involve the public in accordance with NOAA's NEPA procedures, and develop in consultation with identified consulting parties alternatives and proposed measures that might avoid, minimize or mitigate any adverse effects on historic properties and describe them in any environmental assessment or draft environmental impact statement.

Authority: 16 U.S.C. 1431 et seq.

Dated: August 20, 2015.
John Armor,
Acting Director, Office of National Marine Sanctuaries.

[FR Doc. 2015-21132 Filed 8-26-15; 8:45 am]

BILLING CODE 3510-NK-P